DEPARTMENT OF HEALTH AND HUMAN SERVICES

Centers for Disease Control and Prevention

Disease, Disability, and Injury Prevention and Control Special Emphasis Panel (SEP)—DP20-002, Natural Experiments of the Impact of Population-Targeted Policies To Prevent Type 2 Diabetes and Diabetes Complications; Amended Notice of Meeting

Notice is hereby given of a change in the meeting of the Disease, Disability, and Injury Prevention and Control Special Emphasis Panel (SEP)—DP20-002, Natural Experiments of the Impact of Population-Targeted Policies To Prevent Type 2 Diabetes and Diabetes Complications; April 7-9, 2020; 10:00 a.m.-6:00 p.m., (EDT), Teleconference, which was published in the Federal Register on Friday, January 10, 2020, Volume 85, Number 7, pages 1316-1317.

The meeting is being amended to change the date and time to April 7-8, 2020, from 11:00 a.m.-6:00 p.m., EDT.

The meeting is closed to the public.

For Further Information Contact: Jaya Raman Ph.D., Scientific Review Officer, CDC, 4770 Buford Highway, Mailstop F80, Atlanta, Georgia 30341, Telephone: (770) 488-6511, kva5@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-03018 Filed 2-13-20; 8:45 am]

BILLING CODE 4163-18-P